DEPARTMENT OF ENERGY

Federal Energy Regulatory Commission

[Docket No. ER11-2256-000]

California Independent System Operator Corporation; Notice Establishing Comment Periods

This notice establishes the comment periods for the technical conference which was held on April 28, 2011, to discuss issues related to California Independent System Operator Corporation's (CAISO) Capacity Procurement Mechanism (CPM) compensation methodology and exceptional dispatch mitigation provisions.¹ All parties are invited to submit initial comments on or before Friday, May 27, 2011, and initial comments are requested to be no longer than 25 pages. Reply comments are due on or before Wednesday, June 15, 2011, and are requested to be no longer than 15 pages.

¹ Cal. Indep. Sys. Operator Corp., 134 FERC¶ 61,211, at P2 (2011).

For more information, please contact Katheryn Hoke at Katheryn.hoke@ferc.gov or (202) 502-8404, or Colleen Farrell at Colleen.farrell@ferc.gov or (202) 502-6751.

Dated: May 3, 2011.
Kimberly D. Bose,
Secretary.

[FR Doc. 2011-11235 Filed 5-6-11; 8:45 am]

BILLING CODE 6717-01-P